NATIONAL AERONAUTICS AND SPACE ADMINISTRATION

14 CFR Part 1260

RIN 2700-AC62

NASA Grant and Cooperative Agreement Handbook—Format and Numbering

AGENCY: National Aeronautics and Space Administration.

ACTION: Final rule.

SUMMARY: This final rule amends the NASA Grant and Cooperative Agreement Handbook by revising the format and numbering scheme used to identify NASA's grants and cooperative agreements. This change is required to maintain the traditional alignment between NASA's grant and contract numbering schemes.

EFFECTIVE DATE: October 1, 2003.

FOR FURTHER INFORMATION CONTACT: Suzan P. Moody, NASA Headquarters, Code HK, Washington, DC, (202) 358-0503, e-mail: Suzan.P.Moody@nasa.gov.

SUPPLEMENTARY INFORMATION:

A. Background

The General Services Administration (GSA) has established new requirements for unique numbering within an agency and between agencies for award instruments reported to the Federal Procurement Data System—Next Generation (FPDS-NG). This new requirement is effective no later than October 1, 2003. On May 21, 2003, the Assistant Administrator for Procurement approved a new numbering scheme to be used by NASA to comply with the GSA requirement. Although assistance agreements are not reported to the FPDS, NASA has always used the same numbering scheme for assistance agreements and contracts, as a matter of simplicity and efficiency. This final rule implements the revised numbering scheme.

B. Regulatory Flexibility Act

NASA certifies that this final rule will not have a significant economic impact on a substantial number of small entities within the meaning of the Regulatory Flexibility Act, 5 U.S.C. 601 et seq., because the changes primarily modify existing internal operational practices.

C. Paperwork Reduction Act

The Paperwork Reduction Act does not apply because this final rule does not impose any new recordkeeping or information collection requirements, or collection of information from offerors, contractors, or members of the public that require the approval of the Office of Management and Budget under 44 U.S.C. 3501, et. seq.

List of Subjects in 14 CFR Part 1260

Grant Programs—Science and Technology.

Tom Luedtke,
Assistant Administrator for Procurement.

Accordingly, 14 CFR Part 1260 is amended as follows:

1. The authority citation for 14 CFR 1260 continues to read as follows:

Authority: 42 U.S.C. 2473(c)(1) and Pub. L. 97-258, 96 Stat. 1003 (31 U.S.C. 6301, et seq.)

PART 1260—GRANTS AND COOPERATIVE AGREEMENTS

2. Amend section 1260.15 by revising paragraph (c) to read as follows:

§ 1260.15 Format and numbering.

* * * * *

(c) Grants and cooperative agreements will be sequentially numbered. The Identification Numbering System to be used for all types of NASA grants and cooperative agreements will be applied as follows:

(1) Agency prefix. NASA's agency prefix shall be represented by the characters “NN”.

(2) Center. The Center Identification Number shall conform to NASA FAR Supplement (NFS) 48 CFR 1804.7102(a).

(3) Fiscal year. The fiscal year shall be represented as two digits.

(4) Action number. The action number shall be identified using a two digit alpha and two digit numerical character from AA01 through ZZ99.

(5) Procurement code. Cooperative Agreements will be identified using “A” as the procurement code. Grants (other than training grants) will be identified using “G” as the procurement code. Training Grants will be identified using “H” as the procurement code.

(6) As an example of the above set forth methodology, the first two training grants awarded by Glenn Research Center in Fiscal Year 2004 would be NNC04AA01H and NNC04AA02H.

(7) The Catalog of Federal Domestic Assistance (CFDA) Numbers does not apply to NASA grants.

[FR Doc. 03-23862 Filed 9-17-03; 8:45 am]

BILLING CODE 7510-01-P